DEPARTMENT OF COMMERCE

International Trade Administration

A-570-929

Notice of Postponement of Preliminary Determination in the Antidumping Duty Investigation of Small Diameter Graphite Electrodes from the People's Republic of China

AGENCY: Import Administration, International Trade Administration, Department of Commerce.

EFFECTIVE DATE: June 10, 2008.

FOR FURTHER INFORMATION CONTACT: Magd Zalok or Drew Jackson, AD/CVD Operations, Office 4, Import Administration, International Trade Administration, U.S. Department of Commerce, 14th Street and Constitution Avenue, NW, Washington, DC, 20230; telephone: (202) 482-4162 and (202) 482-4406, respectively.

SUPPLEMENTARY INFORMATION:

Postponement of Preliminary Determination

On February 6, 2008, the Department of Commerce (the Department) initiated the antidumping duty investigation of small diameter graphite electrodes from the People's Republic of China. See Small Diameter Graphite Electrodes from the People's Republic of China: Initiation of Antidumping Duty Investigation, 73 FR 8287 (February 13, 2008) (Initiation Notice). The notice of initiation stated that, unless postponed, the Department would make its preliminary determinations in this antidumping duty investigation no later than 140 days after the date of the initiation.

On May 28, 2008, the Petitioners¹ made a timely request pursuant to 19 CFR 351.205(e) for a 50-day postponement of the preliminary determination in this investigation. The Petitioners requested postponement of the preliminary determination because of the extraordinarily complicated nature of the proceeding and because additional time is needed to develop the record.

¹ The Petitioners in this investigation are SGL Carbon LLC and Superior Graphite Co.

For the reasons identified by the Petitioners, and because there are no compelling reasons to deny the request, the Department is postponing this preliminary determination under section 733(c)(1)(A) of the Tariff Act of 1930, as amended (the Act) by 50 days from June 25, 2008 to August 14, 2008. The deadline for the final determination will continue to be 75 days after the date of the preliminary determination, unless extended.

This notice is issued and published pursuant to sections 733(c)(2) and 777(i)(1) of the Act, and 19 CFR 351.205(f)(1).

Dated: June 4, 2008.
David M. Spooner,
Assistant Secretary for Import Administration.

[FR Doc. E8-12995 Filed 6-9-08; 8:45 am]

BILLING CODE 3510-DS-S